DEPARTMENT OF HOMELAND SECURITY

Federal Emergency Management Agency

[Docket ID FEMA-2020-0002]

Final Flood Hazard Determinations

AGENCY: Federal Emergency Management Agency, DHS.

ACTION: Notice.

SUMMARY: Flood hazard determinations, which may include additions or modifications of Base Flood Elevations (BFEs), base flood depths, Special Flood Hazard Area (SFHA) boundaries or zone designations, or regulatory floodways on the Flood Insurance Rate Maps (FIRMs) and where applicable, in the supporting Flood Insurance Study (FIS) reports have been made final for the communities listed in the table below.

The FIRM and FIS report are the basis of the floodplain management measures that a community is required either to adopt or to show evidence of having in effect in order to qualify or remain qualified for participation in the Federal Emergency Management Agency's (FEMA's) National Flood Insurance Program (NFIP). In addition, the FIRM and FIS report are used by insurance agents and others to calculate appropriate flood insurance premium rates for buildings and the contents of those buildings.

DATES: The date of February 26, 2021 has been established for the FIRM and, where applicable, the supporting FIS report showing the new or modified flood hazard information for each community.

ADDRESSES: The FIRM, and if applicable, the FIS report containing the final flood hazard information for each community is available for inspection at the respective Community Map Repository address listed in the tables below and will be available online through the FEMA Map Service Center at https://msc.fema.gov by the date indicated above.

FOR FURTHER INFORMATION CONTACT: Rick Sacbibit, Chief, Engineering Services Branch, Federal Insurance and Mitigation Administration, FEMA, 400 C Street SW, Washington, DC 20472, (202) 646-7659, or (email) patrick.sacbibit@fema.dhs.gov; or visit the FEMA Mapping and Insurance eXchange (FMIX) online at https://www.floodmaps.fema.gov/fhm/fmx_main.html.

SUPPLEMENTARY INFORMATION: The Federal Emergency Management Agency (FEMA) makes the final determinations listed below for the new or modified flood hazard information for each community listed. Notification of these changes has been published in newspapers of local circulation and 90 days have elapsed since that publication. The Deputy Associate Administrator for Insurance and Mitigation has resolved any appeals resulting from this notification.

This final notice is issued in accordance with section 110 of the Flood Disaster Protection Act of 1973, 42 U.S.C. 4104, and 44 CFR part 67. FEMA has developed criteria for floodplain management in floodprone areas in accordance with 44 CFR part 60.

Interested lessees and owners of real property are encouraged to review the new or revised FIRM and FIS report available at the address cited below for each community or online through the FEMA Map Service Center at https://msc.fema.gov.

The flood hazard determinations are made final in the watersheds and/or communities listed in the table below.

(Catalog of Federal Domestic Assistance No. 97.022, “Flood Insurance.”)

Michael M. Grimm,
Assistant Administrator for Risk Management, Department of Homeland Security, Federal Emergency Management Agency.

Community | Community map repository address
Pulaski County, Arkansas and Incorporated Areas
Docket No.: FEMA-B-1976
City of Little Rock | Public Works Administration Building, 701 West Markham Street, Little Rock, AR 72201.
Kauai County, Hawaii
Docket No.: FEMA-B-1963
Kauai County | Kauai County Department of Public Works, 4444 Rice Street, Lihue, HI 96766.
Metropolitan Government of Louisville and Jefferson County, Kentucky (All Jurisdictions)
Docket No.: FEMA-B-1860
Metropolitan Government of Louisville and Jefferson County, Kentucky | Metropolitan Government of Louisville and Jefferson County Metropolitan Sewer District, 700 West Liberty Street, Louisville, KY 40203.
Juniata County, Pennsylvania (All Jurisdictions)
Docket No.: FEMA-B-1923
Township of Susquehanna | Susquehanna Township Municipal Building, 580 Gamby Hill Road, Liverpool, PA 17045.
Union County, Pennsylvania (All Jurisdictions)
Docket No.: FEMA-B-1923
Township of Union | Union Township Municipal Building, 70 Municipal Lane, Winfield, PA 17889.
Cheatham County, Tennessee and Incorporated Areas
Docket No.: FEMA-B-1905
Town of Ashland City | City Hall, 101 Court Street, Ashland City, TN 37015.
Town of Pleasant View | City Hall, 1008 Civic Court, Pleasant View, TN 37146.
Unincorporated Areas of Cheatham County | Cheatham County Building and Codes Department, 111 Frey Street, Ashland City, TN 37015.
Robertson County, Tennessee and Incorporated Areas
Docket No.: FEMA-B-1905
Town of Coopertown | Coopertown City Hall, 2525 Burgess Gower Road, Springfield, TN 37172.
Unincorporated Areas of Robertson County | Robertson County Planning and Zoning Building, 527 South Brown Street, Springfield, TN 37172.
Sumner County, Tennessee and Incorporated Areas
Docket No.: FEMA-B-1905
City of Goodlettsville | Planning and Zoning Department, 318 North Main Street, Goodlettsville, TN 37072.
City of Hendersonville | City Hall, 101 Maple Drive North, Hendersonville, TN 37075.
City of Millersville | City Hall, 1246 Louisville Highway, Millersville, TN 37072.
Unincorporated Areas of Sumner County | Sumner County Building and Codes Department, 355 North Belvedere Drive, Room 208, Gallatin, TN 37066.
Williamson County, Tennessee and Incorporated Areas
Docket No.: FEMA-B-1905
City of Brentwood | City Hall, 5211 Maryland Way, Brentwood, TN 37027.
Town of Nolensville | Town Hall, 7218 Nolensville Road, Nolensville, TN 37135.
Unincorporated Areas of Williamson County | Williamson County Engineering Department, 1320 West Main Street, Suite 400, Franklin, TN 37064.
Culpeper County, Virginia and Incorporated Areas
Docket No.: FEMA-B-1929
Town of Culpeper | Town Hall, Planning and Community Development, 400 South Main Street, Suite 301, Culpeper, VA 22701.
Unincorporated Areas of Culpeper County | Culpeper County Planning and Zoning Department, 302 North Main Street, Culpeper, VA 22701.
Rappahannock County, Virginia and Incorporated Areas
Docket No.: FEMA-B-1921
Town of Washington | Town Hall, 567 Mount Salem Avenue, Suite 3, Washington, VA 22747.
Unincorporated Areas of Rappahanock County | Rappahannock County Zoning Administrator Office, 311H Gay Street, Washington, VA 22747.

[FR Doc. 2020-23618 Filed 10-23-20; 8:45 am]

BILLING CODE 9111-23-P